DEPARTMENT OF THE INTERIOR

Bureau of Land Management

[NV-910-07-1990-EX]

Notice of Intent To Prepare a Supplemental Environmental Impact Statement Updating Cumulative Effects Analysis for the Newmont Mining Corporation South Operations Area Project Amendment, Nevada

AGENCY: Bureau of Land Management, Interior.

ACTION: Notice of Intent (NOI).

SUMMARY: In accordance with section 102(2)(c) of the National Environmental Policy Act of 1969 and 43 CFR part 3809, the Bureau of Land Management (BLM), Elko Field Office will be preparing a Supplemental Environmental Impact Statement (SEIS) to update the cumulative effects analysis for Newmont Mining Corporation's South Operations Area Project Amendment (SOAPA) gold mine in Elko County, Nevada. The project was authorized in 2002. The BLM is asking the public for information on any new or proposed projects within the cumulative effects areas which could contribute cumulative effects. We are also asking the public to review the cumulative effects areas as defined in the 2002 SOAPA EIS. This EIS can be reviewed on or downloaded from the Elko BLM's Web page, http://www.nv.blm.gov/elko.

DATES: Comments must be received in the Elko Field Office within 21 days after publication of this NOI in the Federal Register.

ADDRESSES: You may submit comments by any of the following methods:

—Fax: (775) 753-0255

—Mail: Send to the attention of the South Operations Area Project Amendment Project Manager, BLM Elko Field Office, 3900 East Idaho Street, Elko, NV 89801

FOR FURTHER INFORMATION CONTACT: Deb McFarlane, Project Manager at the Elko Field Office, 3900 E. Idaho Street, Elko, NV 89801. Telephone: (775) 753-0200.

SUPPLEMENTARY INFORMATION: The BLM signed a Record of Decision (ROD) for Newmont Mining Corporation's South Operations Area Project Amendment located on the Carlin Trend in northeastern Nevada, on July 26, 2002. That ROD authorized Newmont to mine an additional 350 feet below what had been previously authorized and to expand 139 acres aerially, to expand waste rock disposal facilities and leach facilities, to continue dewatering and ground water discharge to Maggie Creek, and to construct associated ancillary facilities.

Four years of legal review resulted in the United States Court of Appeals for the Ninth Circuit partially reversing the ROD. In response, the BLM will review and update the cumulative effects analyzed in Chapter 4 of the 2002 EIS and issue a SEIS, along with a new ROD.

Comments, including names and street addresses of respondents, will be available for public review at the above address during regular business hours 7:30 a.m. to 4:30 p.m., Monday through Friday, except holidays, and may be published as part of the SEIS. Before including your address, phone number, e-mail address, or other personal identifying information in your comment, be advised that your entire comment—including your personal identifying information—may be made publicly available at any time. While you can ask us in your comment to withhold from public review your personal identifying information, we cannot guarantee that we will be able to do so. All submissions from organizations or businesses, and from individuals identifying themselves as representatives or officials of organizations or businesses, will be available for public inspection in their entirety.

Dated: January 17, 2007.
Danielle Yroz,
Associate Field Manager.

[FR Doc. E7-4078 Filed 3-6-07; 8:45 am]

BILLING CODE 4310-HC-P